DEPARTMENT OF THE TREASURY

Submission for OMB Review; Comment Request

April 12, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 23, 2001 to be assured of consideration.

Departmental Offices/Office of Financial Institutions Policy

OMB Number: 1505-0174.

Form Number: None.

Type of Review: Reinstatement.

Title: Financial Subsidiaries.

Description: Section 121 of the Gramm-Leach-Bliley authorizes the Secretary of the Treasury to determine that an activity is financial in nature and therefore an activity in which a financial subsidiary of a national bank may engage. The regulation explains how a party may request that the Secretary make such a determination.

Respondents: Business or other for-profit.

Estimated Number of Respondents: 20.

Estimated Burden Hours Per Respondent: 20 hours.

Frequency of Response: On occasion.

Estimated Total Reporting Burden: 400 hours.

Clearance Officer: Lois K. Holland (202) 622-1563, Departmental Offices, Room 2110, 1425 New York Avenue, NW., Washington, DC 20220.

OMB Reviewer: Alexander T. Hunt (202) 395-7860, Office of Management and Budget, Room 10202, New Executive Office Building, Washington, DC 20503.

Lois K. Holland,
Departmental Reports Management Officer.

[FR Doc. 01-9969 Filed 4-20-01; 8:45 am]

BILLING CODE 4810-25-P